DEPARTMENT OF HEALTH AND HUMAN SERVICES

Food and Drug Administration

[Docket No. FDA-2013-N-0001]

2013 Medical Countermeasures Initiative Regulatory Science Symposium

AGENCY: Food and Drug Administration, HHS.

ACTION: Notice of meeting.

The Food and Drug Administration (FDA) is announcing the following meeting: 2013 Medical Countermeasures initiative (MCMi) Regulatory Science Symposium. The symposium is intended to provide a forum for the exchange of ideas for medical countermeasure development, highlight work on regulatory science as it applies to the development and advancement of medical countermeasures, facilitate innovative directions, and inform stakeholders on medical countermeasure-related scientific progress and accomplishments.

Dates and Times: The symposium will be held on May 29 and May 30, 2013, from 9 a.m. to 5 p.m., and on May 31, 2013, from 9 a.m. to 12 noon. Persons interested in attending the symposium in person or viewing via Webcast must register by May 24, 2013, at 5 p.m. EST.

Location: The symposium will be held at the FDA White Oak Campus, 10903 New Hampshire Ave., Bldg. 31 Conference Center, the Great Room (Rm. 1503), Silver Spring, MD 20993-0002. Entrance for the symposium participants (non-FDA employees) is through Building 1 where routine security check procedures will be performed. For parking and security information, please refer to http://www.fda.gov/AboutFDA/WorkingatFDA/BuildingsandFacilities/WhiteOakCampusInformation/ucm241740.htm.

Contact: Rakesh Raghuwanshi, Office of Counterterrorism and Emerging Threats, Food and Drug Administration, 10903 New Hampshire Ave., Bldg. 32, Rm. 4283, Silver Spring, MD 20993, 301-796-4769, Fax: 301-847-8615, email: AskMCMi@fda.hhs.gov.

Registration: If you wish to attend the symposium or view via Webcast, you must register at http://www.fda.gov/medicalcountermeasures by May 24, 2013, at 5 p.m. EST. When registering, you must provide the following information: (1) Your name, (2) title, (3) company or organization (if applicable), (4) mailing address, (5) phone number, and (6) email address.

There is no fee to register for the symposium and registration will be on a first-come, first-served basis. Early registration is recommended because seating is limited.

If you need special accommodations due to a disability, please enter pertinent information in the “Notes” section of the electronic registration form when you register.

Date: April 1, 2013.
Peter Lurie,
Acting Associate Commissioner for Policy and Planning.

[FR Doc. 2013-07893 Filed 4-4-13; 8:45 am]

BILLING CODE 4160-01-P